DEPARTMENT OF COMMERCE

National Oceanic and Atmospheric Administration

50 CFR Part 226

RIN 0648-AV74

Endangered and Threatened Species; Critical Habitat for the Endangered Distinct Population Segment of Smalltooth Sawfish

AGENCY: National Marine Fisheries Service (NMFS), National Oceanic and Atmospheric Administration (NOAA), Commerce.

ACTION: Notice of two public hearings.

SUMMARY: We, NMFS, will hold two public hearings in Florida in January of 2009, to receive public comments on the proposal to designate critical habitat for the endangered U.S. distinct population segment (DPS) of smalltooth sawfish that published on November 20, 2008.

DATES: The hearings will be held from 7 to 9 p.m. on January 5, 2009, in Naples, FL and on January 14, 2009, in Cape Coral, FL.

ADDRESSES: The January 5, 2009, hearing will be held at the Port of the Islands Hotel, 25000 Tamiami Trail E, Naples, FL; and the January 14, 2009, hearing will be held at the Hampton Inn and Suites, 619 SE 47th Terrace, Cape Coral, FL.

You may also submit comments, identified by the Regulatory Information Number (RIN) 0648-AV74, by any of the following methods:

Mail: Assistant Regional Administrator, Protected Resources Division, NMFS, Southeast Regional Office, 263 13th Avenue South, St. Petersburg, FL 33701.

Facsimile (fax) to: 727-824-5309.

Electronic Submissions: Submit all electronic comments to www.regulations.gov by clicking on “Search for Dockets” at the top of the screen, then entering the RIN in the “RIN” field and clicking the “Submit” tab.

Instructions: All comments received are considered part of the public record and will generally be posted to http://www.regulations.gov. All Personal Identifying Information (i.e., name, address, etc.) voluntarily submitted may be publicly accessible. Do not submit Confidential Business Information or otherwise sensitive or protected information. NMFS will accept anonymous comments. Please provide electronic attachments using Microsoft Word, Excel, WordPerfect, or Adobe PDF file formats only. All comments must be received by midnight EST on January 20, 2009.

FOR FURTHER INFORMATION CONTACT: Shelley Norton, NMFS, Southeast Regional Office, at 727-824-5312; or Lisa Manning, NMFS, Office of Protected Resources, at 301-713-1401.

SUPPLEMENTARY INFORMATION:

Background

On November 20, 2008, we published a proposed rule (73 FR 70290) to designate critical habitat for the endangered U.S. DPS of smalltooth sawfish. We stated that we would hold public hearings on the proposed designation. NMFS will accept oral comments on the proposed critical habitat designation at the two public hearings mentioned in the “Dates” section of this notice.

Special Accommodations

These hearings are physically accessible to people with disabilities. Requests for sign language interpretation or other auxiliary aids should be directed to Shelley Norton at (727) 824-5312 at least 7 working days prior to the hearing date.

Authority: 16 U.S.C. 1531 et seq.

Dated: December 3, 2008.
P. Michael Payne,
Acting Deputy Director, Office of Protected Resources, National Marine Fisheries Service.

[FR Doc. E8-29134 Filed 12-8-08; 8:45 am]

BILLING CODE 3510-22-S